DEPARTMENT OF TRANSPORTATION

Pipeline and Hazardous Materials Safety Administration

Office of Hazardous Materials Safety

AGENCY: Pipeline and Hazardous Materials Safety Administration (PHMSA), DOT.

ACTION: Notice of actions on Special Permit Applications.

SUMMARY: In accordance with the procedures governing the application for, and the processing of, special permits from the Department of Transportation's Hazardous Material Regulations (49 CFR part 107, Subpart B), notice is hereby given of the actions on special permits applications in (April to April 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on May 13, 2014.
Donald Burger,
Chief, Special Permits and Approvals Branch.

S.P No. | Applicant | Regulation(s) | Nature of special permit thereof
MODIFICATION SPECIAL PERMIT GRANTED
15577-M | Olin Corporation, Oxford, MS | 49 CFR 172.101 column 8, 173.62(b), 173.60(b)(8), 172.300(d) | To modify the special permit to authorize a contract carrier.
14867-M | GTM Manufacturing, LLC, Amarillo, TX | 49 CFR 173.302a and 173.304 | To modify the special permit to authorize a 30 year service life for the cylinders, add a Division 2.3 material and remove the water jacket as a test Method.
14296-M | GasCon (Pty) Ltd. Elsies River 7480 | 49 CFR 178.274(b)(1), and 178.276(b)(1) | To modify the special permit to authorize the latest revision of the ASME, Section VIII Division 2.
15847-N | Safariland, LLC, Jacksonville, FL | 49 CFR 173.4a | To authorize the transportation in commerce of Nitric acid up to 65% as an excepted quantity by cargo aircraft only. (modes 1, 4).
15985-N | Space Exploration Technologies Corp., Hawthorne, CA | 49 CFR Part 172 and 173 | To authorize the transportation in commerce of certain hazardous material as part of the Falcon Space capsule without requiring shipping papers, marking and labeling. (mode 1).
16079-N | Wal-Mart Stores East, LP, Bentonville, AR | 49 CFR 171.2(k) | To authorize the transportation in commerce of certain used cylinders containing Helium, compressed as fully regulated without first determining that a hazardous material is present. (mode 1).
EMERGENCY SPECIAL PERMIT GRANTED
12706-M | Hexagon Ragasco As Raufoss | 49 CFR 173.34; 173.201; 173.301; 173.304 | To modify the special permit to authorize an alternative test and inspection procedure.
16127-N | Linde Gas North America LLC, Murray Hill, NJ | 49 CFR 171.23(a)(1) and 171.23(a)(2)(ii) | To authorize the transportation in commerce of certain non-DOT Specification foreign cylinders containing Neon by motor vehicle and cargo vessel (modes 1, 3).
16135-N | Austin Powder Company, Cleveland, OH | 49 CFR, Necessary to prevent significant economic impact | To authorize the transportation in commerce of ammonium nitrate by cargo air in amounts exceeding what is currently authorized. (mode 4).
16147-N | Michigan State Police, Lansing, MI | 49 CFR 171-180 | To authorize the transportation in commerce of certain hazardous materials in support of the recovery and relief efforts within the flood disaster areas Newaygo and Osceola Counties in Michigan. (mode 1).
NEW SPECIAL PERMIT WITHDRAWN
16134-N | Massachusetts Department of Public Health, Jamaica Plain, MA | 49 CFR 49 CFR Parts 106, 107 and 171-180 | We are requesting party status to Special Permit DOT SP 14599 to authorize the transportation in commerce of packages of non hazardous material identified as “Biological substance, Category B”, for purposes of shipping and packaging srill conducted to evaluate bioterrorism and chemical terrorism preparedness. (modes 1, 4).
DENIED
7616-M | Request by Mississippi Export Railroad Company, Moss Point, MS April 16, 2014.
15996-N | Request by University of York York, April 10, 2014. To authorize the transportation in commerce of 53 non-DOT specification EU certified cylinders from the United Kingdom into the U.S. Territory of Guam for the atmospheric research field campaign “CONTRAST”.

[FR Doc. 2014-12438 Filed 5-29-14; 8:45 am]

BILLING CODE 4909-60-M